DEPARTMENT OF HOMELAND SECURITY

U.S. Customs and Border Protection

Modification and Clarification of the National Customs Automation Program Tests Regarding Post-Summary Corrections and Periodic Monthly Statements; Republication With Correction and Further Clarification

AGENCY: U.S. Customs and Border Protection, Department of Homeland Security.

ACTION: General notice; republication with correction and further clarification.

SUMMARY: On December 12, 2016, U.S. Customs and Border Protection (CBP) published in the Federal Register a document announcing CBP's plans to modify and clarify the National Customs Automation Program (NCAP) test regarding Post-Summary Correction (PSC) claims to entry summaries that are filed in the Automated Commercial Environment (ACE), as well as the Periodic Monthly Statement (PMS) test. The notice liberalized and eliminated some requirements needed for the filing of PSCs; however, it also placed burdens on the importer in the form of a restriction and a prohibition.

Subsequently, CBP decided to remove the restriction imposed on all PSC filings to make payments within three business days of submitting the PSC, with the exception of entry type 03 filings, and to remove the prohibition of filing additional PSCs until additional duties, fees and taxes are deposited. This document republishes and supersedes the document published on December 12 with these corrections and clarifications. Except to the extent expressly announced or modified by this document, all aspects, rules, terms and conditions announced in notices previous to this notice and the December 12 publication regarding the tests remain in effect.

DATES: The changes made by this notice are effective January 14, 2017.

ADDRESSES: Comments concerning these test programs may be submitted via email to Monica Crockett at ESARinfoinbox@dhs.gov with a subject line identifier reading, “Post-Summary Corrections and Periodic Monthly Statements.”

FOR FURTHER INFORMATION CONTACT: For policy-related questions, contact Randy Mitchell, Director, Commercial Operations, Trade Policy and Programs, Office of Trade, at Randy.Mitchell@cbp.dhs.gov. For technical questions related to ABI transmissions, contact your assigned client representative. Interested parties without an assigned client representative should direct their questions to the Client Representative Branch at (703) 650-3500.

SUPPLEMENTARY INFORMATION: On December 12, 2016, U.S. Customs and Border Protection (CBP) published a notice in the Federal Register (81 FR 89482) announcing plans to modify and clarify, effective on January 14, 2017, the National Customs Automation Program (NCAP) test regarding Post-Summary Correction (PCS) claims, and the Periodic Monthly Statement (PMS) test. The notice announced seven changes to the PSC test. Subsequently, CBP decided not to implement two of the changes. One of the changes relates to the requirement of submitting additional duties, fees and taxes within three business days of filing a PSC. This notice alleviates the requirement imposed on all PSC filings and limits the restriction of submitting payment to PSC filings declaring an increase of liability for antidumping/countervailing duties and associated fees and taxes. This notice also removes the prohibition of filing additional PSCs until the duties, fees and taxes are deposited. With this notice, CBP modifies section 3 (“Deposit of Duties, Fees and Taxes With PSC Showing Increase in Liability”) and removes section 5 (“Elimination of CBP's Policy of Rejecting a PSC When There is No Deposit of Antidumping and/or Countervailing Duties at Time of Submission of PSC”) of the published notice on December 12.

This document also provides the correct CBP point of contact for making a deposit, and clarifies the method and location of payment of additional deposits of duties, fees and taxes. In addition, this notice clarifies how CBP will determine the time of payment of duties, fees and taxes.

For ease of reference, the December 12 document is republished below with the aforementioned changes.

I. Background

Post-Summary Correction (PSC) and Periodic Monthly Statement (PMS) Test Programs

The National Customs Automation Program (NCAP) was established by Subtitle B of Title VI—Customs Modernization in the North American Free Trade Agreement (NAFTA) Implementation Act (Customs Modernization Act) (Pub. L. 103-182, 107 Stat. 2057, 2170, December 8, 1993) (19 U.S.C. 1411). Through NCAP, the thrust of customs modernization was on trade compliance and the development of the Automated Commercial Environment (ACE), the planned successor to the Automated Commercial System (ACS) as the CBP-authorized electronic data interchange (EDI) system. ACE is an automated and electronic system for commercial trade processing which is intended to streamline business processes, facilitate growth in trade, ensure cargo security, and foster participation in global commerce, while ensuring compliance with U.S. laws and regulations and reducing costs for CBP and all of its communities of interest. The ability to meet these objectives depends on successfully modernizing CBP's business functions and the information technology that supports those functions. CBP's modernization efforts are accomplished through phased releases of ACE component functionality designed to replace specific legacy ACS functions and add new functionality. Section 101.9(b) of title 19 of the Code of Federal Regulations (19 CFR 101.9(b)) provides for the testing of NCAP components. See T.D. 95-21, 60 FR 14211 (March 16, 1995). A list of ACE tests is provided in Section III below.

1. PSC Test Program

On June 24, 2011, CBP published a notice in the Federal Register (76 FR 37136) that announced a plan to conduct an NCAP test concerning new ACE capabilities which allow importers to file a PSC for certain entry summaries using the Automated Broker Interface (ABI). Importers and brokers are also allowed to use ABI to file a PSC to those pre-liquidation ACE entry summaries that were accepted by CBP, fully paid, and under CBP control. On November 19, 2013, CBP published a notice in the Federal Register modifying and clarifying the terms and conditions of the PSC test. See 78 FR 69434.

2. PMS Test Program

On February 4, 2004, CBP published a notice in the Federal Register (69 FR 5362) that announced a plan to conduct an NCAP test concerning PMS which allows importers to deposit estimated duties, fees and taxes on a monthly basis. CBP modified and clarified the PMS test in seven subsequent Federal Register notices published on: September 8, 2004 (69 FR 54302); February 1, 2005 (70 FR 5199); August 8, 2005 (70 FR 45736); September 22, 2005 (70 FR 55623); January 20, 2006 (71 FR 3315); June 2, 2006 (71 FR 32114); and October 17, 2008 (73 FR 61891).

II. Test Modifications and Clarifications

This document announces numerous modifications and clarifications to the PSC and PMS tests. Each modification and clarification is discussed separately below. This document supersedes the December 12 notice and, except to the extent expressly announced or modified by this document, all aspects, rules, terms, requirements, obligations and conditions announced in notices previous to this notice and the December 12 publication regarding the PSC and PMS tests remain in effect.

A. Modifications and Clarifications of the PSC Test

1. Expansion of Entry Types

This document announces that CBP is expanding the type of entries that may be corrected by filing a PSC, in addition to the current entry types 01 (Consumption—Free and Dutiable) and 03 (Consumption—Antidumping/Countervailing Duty). The additional entry types are as follows:

• 02—Consumption—Quota/Visa.

• 06—Consumption—Foreign Trade Zone (FTZ).

• 07—Consumption—Antidumping/Countervailing Duty and Quota/Visa Combination.

• 21—Warehouse.

• 22—Re-Warehouse.

• 23—Temporary Importation Bond (TIB).

• 31—Warehouse Withdrawal—Consumption.

• 32—Warehouse Withdrawal—Quota.

• 34—Warehouse Withdrawal—Antidumping/Countervailing Duty.

• 38—Warehouse Withdrawal—Antidumping/Countervailing Duty & Quota/Visa Combination.

• 51—Defense Contract Administration Service Region (DCASR).

• 52—Government—Dutiable.

2. Merchandise Subject to Quota

When filing a PSC for an entry of merchandise subject to quota, the date and time of submission will be considered the date and time of presentation of the merchandise to CBP. If a PSC is filed on an entry with merchandise subject to quota, and the quota is full or nearly full at threshold, the PSC filer must do two things. The filer must follow the Entry Summary Business Rules and Process Document on www.CBP.gov and also, within 24 hours of making the correction, contact Headquarters Quota Branch, either by phone: (202) 863-6560 (public phone number), or email: HQQuota@cbp.dhs.gov, regardless of whether the correction concerns merchandise subject to quota.

3. Deposit of Duties, Fees and Taxes With PSC Showing Increase in Liability

This document announces that when a PSC is filed declaring an increase in the importer's liability for antidumping or countervailing duties and associated fees and taxes, the importer must mail or deliver a check to the CBP port of entry with those additional antidumping or countervailing duties and associated fees and taxes within three business days of submitting the PSC. Furthermore, CBP will no longer reject a PSC declaring an increase in liability for antidumping or countervailing duties and associated fees and taxes when the additional duties, fees and taxes are not deposited at the time of submitting the PSC. This is a change in CBP policy.

If a check is mailed, CBP will consider the additional deposit made based on the date of postmark indicating the check was mailed. When a PSC is filed that results in an increase in the importer's liability for regular duties, fees and taxes and the importer wishes to deposit them, the importer must mail or deliver a check to the port of entry.

4. Change of Entry Type When Antidumping and/or Countervailing Duties Are Involved

Previously, a filer under the PSC test could not change a type 03 entry to a type 01 entry. See 76 FR 37136. This document announces that a PSC may declare that a previously filed entry which stated that merchandise covered by that entry was subject to antidumping and/or countervailing duties is not, in fact, subject to such duties. For instance, a PSC may declare that a previously filed 03 entry type is corrected to indicate it is a 01 entry type.

5. No Filing of PSC To Make a Post-Importation Claim under 19 U.S.C. 1520(d)

On June 24, 2011, CBP announced in the Federal Register (76 FR 37136) that one of the data elements that may not be modified via a PSC is the NAFTA indicator. This notice clarifies that such prohibition applies not only to a post-importation NAFTA claim under 19 U.S.C. 1520(d), but also to a claim made under other free trade agreements covered by 19 U.S.C. 1520(d).

6. PSC Submission Within the Time Limitations Authorized by This Test

On November 19, 2013, CBP published a notice in the Federal Register (78 FR 69434) that stated that a PSC cannot be filed when any merchandise covered by the original entry has been conditionally released and its right to admission has not been determined. This restriction was overly broad and prevented importers from filing a PSC because all goods are conditionally released and their admissibility is not legally determined until liquidation. This notice announces that this restriction does not prevent the filing of a PSC within the time periods allowed as long as all other requirements and limitations are met. The time limits authorized by this test are set forth in notices published in the Federal Register on June 24, 2011 (76 FR 37136) and November 19, 2013 (78 FR 69434). This clarification is in line with current practice.

B. Modification to the PMS Test

This notice announces that CBP will consider a PMS as paid, in the event the importer uses the Automated Clearing House (ACH) debit process, when CBP receives confirmation from the Treasury Department that funds are available and transferred to CBP from the financial institution designated by the importer for payment of the ACH debit authorization. Prior to this modification, CBP considered a PMS as paid when CBP transmitted the debit authorization to the designated financial institution. See 69 FR 5362 (February 4, 2004). This change will result in a delay of approximately two working days in the time that CBP uses to consider a PMS as paid. It is important to note that this modification applies only to importers who participate in the test program. For all other importers, the current regulation, 19 CFR 24.25(c)(4), still applies which means CBP will consider a statement as paid upon acceptance of the ACH debit authorization.

III. Development of ACE Prototypes

A chronological listing of Federal Register publications detailing ACE test developments is set forth below.

• ACE Portal Accounts and Subsequent Revision Notices: 67 FR 21800 (May 1, 2002); 69 FR 5360 and 69 FR 5362 (February 4, 2004); 69 FR 54302 (September 8, 2004); 70 FR 5199 (February 1, 2005).

• ACE System of Records Notice: 71 FR 3109 (January 19, 2006).

• Terms/Conditions for Access to the ACE Portal and Subsequent Revisions: 72 FR 27632 (May 16, 2007); 73 FR 38464 (July 7, 2008).

• ACE Non-Portal Accounts and Related Notice: 70 FR 61466 (October 24, 2005); 71 FR 15756 (March 29, 2006).

• ACE Entry Summary, Accounts and Revenue (ESAR I) Capabilities: 72 FR 59105 (October 18, 2007).

• ACE Entry Summary, Accounts and Revenue (ESAR II) Capabilities: 73 FR 50337 (August 26, 2008); 74 FR 9826 (March 6, 2009).

• ACE Entry Summary, Accounts and Revenue (ESAR III) Capabilities: 74 FR 69129 (December 30, 2009).

• ACE Entry Summary, Accounts and Revenue (ESAR IV) Capabilities: 76 FR 37136 (June 24, 2011).

• Post-Entry Amendment (PEA) Processing Test: 76 FR 37136 (June 24, 2011).

• ACE Announcement of a New Start Date for the National Customs Automation Program Test of Automated Manifest Capabilities for Ocean and Rail Carriers: 76 FR 42721 (July 19, 2011).

• ACE Simplified Entry: 76 FR 69755 (November 9, 2011).

• National Customs Automation Program (NCAP) Tests Concerning Automated Commercial Environment (ACE) Document Image System (DIS): 77 FR 20835 (April 6, 2012).

• National Customs Automation Program (NCAP) Tests Concerning Automated Commercial Environment (ACE) Simplified Entry: Modification of Participant Selection Criteria and Application Process: 77 FR 48527 (August 14, 2012).

• Modification of National Customs Automation Program (NCAP) Test Regarding Reconciliation for Filing Certain Post-Importation Preferential Tariff Treatment Claims under Certain FTAs: 78 FR 27984 (May 13, 2013).

• Modification of Two National Customs Automation Program (NCAP) Tests Concerning Automated Commercial Environment (ACE) Document Image System (DIS) and Simplified Entry (SE): 78 FR 44142 (July 23, 2013).

• Modification of Two National Customs Automation Program (NCAP) Tests Concerning Automated Commercial Environment (ACE) Document Image System (DIS) and Simplified Entry (SE); Correction: 78 FR 53466 (August 29, 2013).

• Modification of National Customs Automation Program Test Concerning Automated Commercial Environment (ACE) Cargo Release (formerly known as Simplified Entry): 78 FR 66039 (November 4, 2013).

• Post-Summary Corrections to Entry Summaries Filed in ACE Pursuant to the ESAR IV Test: Modifications and Clarifications: 78 FR 69434 (November 19, 2013).

• National Customs Automation Program (NCAP) Test Concerning the Submission of Certain Data Required by the Environmental Protection Agency and the Food Safety and Inspection Service Using the Partner Government Agency Message Set Through the Automated Commercial Environment (ACE): 78 FR 75931 (December 13, 2013).

• Modification of National Customs Automation Program (NCAP) Test Concerning Automated Commercial Environment (ACE) Cargo Release for Ocean and Rail Carriers: 79 FR 6210 (February 3, 2014).

• Modification of National Customs Automation Program (NCAP) Test Concerning Automated Commercial Environment (ACE) Cargo Release to Allow Importers and Brokers to Certify From ACE Entry Summary: 79 FR 24744 (May 1, 2014).

• Modification of National Customs Automation Program (NCAP) Test Concerning Automated Commercial Environment (ACE) Cargo Release for Truck Carriers: 79 FR 25142 (May 2, 2014).

• Modification of National Customs Automation Program (NCAP) Test Concerning Automated Commercial Environment (ACE) Document Image System: 79 FR 36083 (June 25, 2014).

• Announcement of eBond Test: 79 FR 70881 (November 28, 2014).

• eBond Test Modifications and Clarifications: Continuous Bond Executed Prior to or Outside the eBond Test May Be Converted to an eBond by the Surety and Principal, Termination of an eBond by Filing Identification Number, and Email Address Correction: 80 FR 899 (January 7, 2015).

• Modification of National Customs Automation Program (NCAP) Test Concerning Automated Commercial Environment (ACE) Document Image System Relating to Animal and Plant Health Inspection Service (APHIS) Document Submissions: 80 FR 5126 (January 30, 2015).

• Modification of National Customs Automation Program (NCAP) Test Concerning the use of Partner Government Agency Message Set through the Automated Commercial Environment (ACE) for the Submission of Certain Data Required by the Environmental Protection Agency (EPA): 80 FR 6098 (February 4, 2015).

• Announcement of Modification of ACE Cargo Release Test to Permit the Combined Filing of Cargo Release and Importer Security Filing (ISF) Data: 80 FR 7487 (February 10, 2015).

• Modification of NCAP Test Concerning ACE Cargo Release for Type 03 Entries and Advanced Capabilities for Truck Carriers: 80 FR 16414 (March 27, 2015).

• Automated Commercial Environment (ACE) Export Manifest for Air Cargo Test: 80 FR 39790 (July 10, 2015).

• National Customs Automation Program (NCAP) Concerning Remote Location Filing Entry Procedures in the Automated Commercial Environment (ACE) and the Use of the Document Image System for the Submission of Invoices and the Use of eBonds for the Transmission of Single Transaction Bonds: 80 FR 40079 (July 13, 2015).

• Modification of National Customs Automation Program (NCAP) Test Concerning the Automated Commercial Environment (ACE) Partner Government Agency (PGA) Message Set Regarding Types of Transportation Modes and Certain Data Required by the National Highway Traffic Safety Administration (NHTSA): 80 FR 47938 (August 10, 2015).

• Automated Commercial Environment (ACE) Export Manifest for Vessel Cargo Test: 80 FR 50644 (August 20, 2015).

• Modification of National Customs Automation Program (NCAP) Test Concerning the Submission of Certain Data Required by the Food and Drug Administration (FDA) Using the Partner Government Agency Message Set through the Automated Commercial Environment (ACE): 80 FR 52051 (August 27, 2015).

• Automated Commercial Environment (ACE) Export Manifest for Rail Cargo Test: 80 FR 54305 (September 9, 2015).

• Modification of the National Customs Automation Program (NCAP) Test Concerning the Automated Commercial Environment (ACE) Document Image System (DIS) Regarding Future Updates and New Method of Submission of Accepted Documents: 80 FR 62082 (October 15, 2015).

• Modification of the National Customs Automation Program (NCAP) Test Concerning the Automated Commercial Environment (ACE) Cargo Release for Entry Type 52 and Certain Other Modes of Transportation: 80 FR 63576 (October 20, 2015).

• Modification of the National Customs Automation Program (NCAP) Test Concerning the Automated Commercial Environment (ACE) Entry Summary, Accounts and Revenue (ESAR) Test of Automated Entry Summary Types 51 and 52 and Certain Modes of Transportation: 80 FR 63815 (October 21, 2015).

• Modification of the National Customs Automation Program Test Concerning the Automated Commercial Environment Portal Account to Establish the Exporter Portal Account: 80 FR 63817 (October 21, 2015).

• Modification of National Customs Automation Program Test Concerning the Automated Commercial Environment Partner Government Agency Message Set Regarding the Toxic Substances Control Act Certification Required by the Environmental Protection Agency: 81 FR 7133 (February 10, 2016).

• Notice Announcing the Automated Commercial Environment (ACE) as the Sole CBP-Authorized Electronic Data Interchange (EDI) System for Processing Certain Electronic Entry and Entry Summary Filings: 81 FR 10264 (February 29, 2016).

• Modification of the National Customs Automation Program (NCAP); Test Concerning the Partner Government Agency Message Set for Certain Data Required by the Environmental Protection Agency (EPA): 81 FR 13399 (March 14, 2016).

• Cessation of National Customs Automation Program (NCAP) Test Concerning the Submission of Certain Data Required by the Food and Drug Administration (FDA) Using the Partner Government Agency (PGA) Message Set Through the Automated Commercial Environment (ACE): 81 FR 18634 (March 31, 2016).

• Automated Commercial Environment (ACE); Announcement of National Customs Automation Program Test of the In-Transit Manifest Pilot Program: 81 FR 24837 (April 27, 2016).

• Announcement of National Customs Automation Program (NCAP) Test Concerning the Submission through the Automated Commercial Environment (ACE) of Certain Import Data and Documents Required by the U.S. Fish and Wildlife Service: 81 FR 27149 (May 5, 2016).

• Notice Announcing the Automated Commercial Environment (ACE) as the Sole CBP-Authorized Electronic Data Interchange (EDI) System for Processing Certain Electronic Entry and Entry Summary Filings Accompanied by Food and Drug Administration (FDA) Data: 81 FR 30320 (May 16, 2016).

• Notice Announcing the Automated Commercial Environment (ACE) as the Sole CBP-Authorized Electronic Data Interchange (EDI) System for Processing Electronic Entry and Entry Summary Filings: 81 FR 32339 (May 23, 2016).

• Notice Announcing the Automated Commercial Environment (ACE) Protest Module as the Sole CBP-Authorized Method for Filing Electronic Protests: 81 FR 49685 (July 28, 2016).

• Modification of the National Customs Automation Program (NCAP) Test Concerning the Automated Commercial Environment (ACE) Portal Accounts to Establish the Protest Filer Account and Clarification that the Terms and Conditions for Account Access Apply to all ACE Portal Accounts: 81 FR 52453 (August 8, 2016).

• National Customs Automation Program (NCAP) Test Concerning Electronic Filing of Protests in the Automated Commercial Environment (ACE): 81 FR 53497 (August 12, 2016).

• Modification of the National Customs Automation Program (NCAP) Test Regarding Reconciliation and Transition of the Test From the Automated Commercial System to the Automated Commercial Environment (ACE): 81 FR 89486 (December 12, 2016).

• Modification and Clarification of the National Customs Automation Program (NCAP) Test Regarding Post-Summary Corrections and Periodic Monthly Statements: 81 FR 89482 (December 12, 2016).

• Effective Date for the Automated Commercial Environment (ACE) Being the Sole CBP-Authorized Electronic Data Interchange (EDI) System for Processing Electronic Drawback and Duty Deferral Entry and Entry Summary Filings: 81 FR 89486 (December 12, 2016).

Dated: January 4, 2017.
Brenda B. Smith,
Executive Assistant Commissioner, Office of Trade.

[FR Doc. 2017-00128 Filed 1-6-17; 8:45 am]

BILLING CODE 9111-14-P